DEPARTMENT OF VETERANS AFFAIRS

[OMB Control No. 2900-0080]

Agency Information Collection Activity Under OMB Review: Funeral Arrangements

AGENCY: Veterans Health Administration, Department of Veterans Affairs

ACTION: Notice.

SUMMARY: In compliance with the Paperwork Reduction Act (PRA) of 1995, this notice announces that the Veterans Health Administration, Department of Veterans Affairs, will submit the collection of information abstracted below to the Office of Management and Budget (OMB) for review and comment. The PRA submission describes the nature of the information collection and its expected cost and burden and it includes the actual data collection instrument.

DATES: Comments must be submitted on or before June 8, 2018.

ADDRESSES: Submit written comments on the collection of information through www.Regulations.gov, or to Office of Information and Regulatory Affairs, Office of Management and Budget, Attn: VA Desk Officer; 725 17th St. NW, Washington, DC 20503 or sent through electronic mail to oira_submission@omb.eop.gov. Please refer to “OMB Control No. 2900-0080” in any correspondence.

FOR FURTHER INFORMATION CONTACT: Cynthia Harvey-Pryor, Office of Quality, Privacy and Risk (OQPR), Department of Veterans Affairs, 810 Vermont Avenue NW, Washington, DC 20420, (202) 461-5870 or email cynthia.harvey-pryor@va.gov Please refer to “OMB Control No. 2900-0080” in any correspondence.

SUPPLEMENTARY INFORMATION:

Authority: 38 U.S.C. 111, 1703, 1725, 1728.

Title: Funeral Arrangements; VA Form 10-2065.

OMB Control Number: 2900-0080.

Type of Review: Reinstatement of a currently approved collection.

Abstract: VA Form 10-2065 is part of the Decedent Affairs Package. The form is completed during the interview with relatives of the deceased, and identifies the funeral home to which the remains are to be released. The family signs the form designating that it reflects their wishes. It is used as a control document when VA is requested to arrange for the transportation of the deceased from the place of death to the place of burial, and/or when burial is requested in a National Cemetery.

An agency may not conduct or sponsor, and a person is not required to respond to a collection of information unless it displays a currently valid OMB control number.

The Federal Register Notice with a 60-day comment period soliciting comments on this collection of information was published at 82 FR 52970 on November 15, 2017, pages 52970 and 52971.

Affected Public: Individuals and households.

Estimated Annual Burden: 3,702 hours.

Estimated Average Burden per Respondent: 10 minutes.

Frequency of Response: On occasion.

Estimated Number of Respondents: 22,213.

By direction of the Secretary.
Cynthia D. Harvey-Pryor,
Department Clearance Officer, Office of Quality, Privacy and Risk, Department of Veterans Affairs.

[FR Doc. 2018-09878 Filed 5-8-18; 8:45 am]

BILLING CODE 8320-01-P